FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 201254-001.

Agreement Name: Sealand/CMA CGM West Coast of Central America Slot Charter Agreement.

Parties: Maersk A/S DBA Sealand and CMA CGM S.A.

Filing Party: Wayne Rohde; Cozen O'Connor.

Synopsis: The amendment: (i) Deletes APL as a party to the Agreement; (ii) updates the name of Maersk; (iii) updates the address of CMA CGM; (iv) adds Panama to the geographic scope of the Agreement; and (v) revises the amount of space to be chartered. It also restates the Agreement.

Proposed Effective Date: 8/24/2020.

Location: https://www2.fmc.gov/FMC.Agreements.Web/Public/AgreementHistory/10193.

Dated: July 17, 2020.
Rachel E. Dickon,
Secretary.

[FR Doc. 2020-15832 Filed 7-21-20; 8:45 am]

BILLING CODE 6730-02-P